UNITED STATES INSTITUTE OF PEACE

Meetings; Board of United States Institute of Peace

Date/Time: Wednesday, September 15, 2010; 9:15 am.-3 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: September 15, 2010 Board Meeting; Approval of Minutes of the One Hundred Thirty-Seventh Meeting (April 29, 2010) of the Board of Directors; Chairman's Report; President's Report; Executive Vice President Report on GPC Launch; Discussion on the Academy re Merger ETC/D and ETC/I; 2011-2012 National Peace Essay Contest Topics; Report on Gender and Peacebuilding; Presentation by Visiting Grantees; Other General Issues.

Contact: Tessie F. Higgs, Executive Office, Telephone: (202) 429-3836.

Dated: August 25, 2010.
Michael Graham,
Vice President for Management and CFO, United States Institute of Peace.

[FR Doc. 2010-21755 Filed 9-3-10; 8:45 am]

BILLING CODE 6820-AR-M